DEPARTMENT OF THE INTERIOR

National Park Service

[NPS-WASO-NRNHL-DTS#-40159; PPWOCRADI0, PCU00RP14.R50000]

National Register of Historic Places; Notification of Pending Nominations and Related Actions

AGENCY: National Park Service, Interior.

ACTION: Notice.

SUMMARY: The National Park Service is soliciting electronic comments on the significance of properties nominated before May 3, 2025, for listing or related actions in the National Register of Historic Places.

DATES: Comments should be submitted electronically by May 28, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before May 3, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

KEY: State, County, Property Name, Multiple Name (if applicable), Address/Boundary, City, Vicinity, Reference Number.

ALABAMA

Colbert County

WZZA Radio Station, 1570 Woodmont Drive, Tuscumbia, SG100011916

Jefferson County

Liberty National Life Insurance Company Building, 2001 3rd Avenue South, Birmingham, SG100011929

Lawrence County

Bride's Hill (Boundary Decrease), (Tidewater Cottages in the Tennessee Valley TR), South side of Browns Ferry Road (County Road 387), 0.29 miles east of County Road 377, Courtland vicinity, BC100011918

Madison County

First Baptist Church, 600 Governor's Drive SW, Huntsville, SG100011919

ALASKA

Fairbanks North Star Borough

Pike's Landing, 1850 Hoselton Dr., Fairbanks, SG100011912

Growden Memorial Ballpark, 207 Wilbur Street, Fairbanks, SG100011920

Prince of Wales-Outer K. Borough, Wolf Creek Boatworks Historic District, 2 mi. NE of E end of Aurora Dr, Tongass National Forest, Hollis, SG100011911

ARKANSAS

Madison County

Huntsville Cemetery Historic Section, Northeast Corner of Missouri Street and Cemetery Drive, Huntsville, SG100011909

CONNECTICUT

Fairfield County

Downtown Bridgeport Historic District, (Downtown Bridgeport MRA), Bounded by Congress St., Water St., Amtrak RR tracks, I-95, and CT 8 & CT 25., Bridgeport, MP100011926

New Haven County

George A. and Jennie Curtis Fay House, 144 Curtis Street, Meriden, SG100011927

IOWA

Adair County

Tastee-Freez Drive In and Dairy Store, 610 SE Kent Street, Greenfield, SG100011921

Des Moines County

Allen, Robert and Catharine (Ripley), House, 17201 Highway 61, Sperry vicinity, SG100011922

Madison County

Winterset Municipal Power Plant, 317 N 1st St./John Wayne Dr. N, Winterset, SG100011923

Marshall County

Home Oil Service Station, 108 4th Street SE, State Center, SG100011924

KANSAS

Brown County

Bank of Powhattan Building, 302 Main Street, Powhattan, SG100011913

Shawnee County

Swanson Gardner House, 207 Southwest Broadmoor Avenue, Topeka, SG100011914

MARYLAND

Montgomery County

Naval Ordnance Laboratory, 10901 New Hampshire Avenue, Silver Spring, SG100011915

OHIO

Hamilton County

Cincinnati Hebrew Day School, 7855 Dawn Road, Cincinnati, SG100011930

PENNSYLVANIA

Allegheny County

Allegheny Second Ward Industrial Historic District, Bounded roughly by Pennsylvania Avenue, Brighton Road/Drovers Way, W North Avenue/Buttercup Way, and Allegheny Avenue, Pittsburgh, SG100011908

SOUTH CAROLINA

Newberry County

Gallman High School, (Equalization Schools in South Carolina, 1951-1960), 540 Brantley St., Newberry, MP100011925

TENNESSEE

Haywood County

Haywood County Farm and Cemetery, 4110 U.S. Hwy 70 East, Brownsville vicinity, SG100011910

TEXAS

Travis County

Della Phillips House, 2310 E Martin Luther King, Jr. Blvd., Austin, SG100011928

An additional documentation has been received for the following resource(s):

ALABAMA

Lawrence County

Bride's Hill (Additional Documentation), (Tidewater Cottages in the Tennessee Valley TR), South side of Browns Ferry Road (County Road 387), 0.29 miles east of County Road 377, Courtland vicinity, AD86001544

Authority: Section 60.13 of 36 CFR part 60.

Sherry A. Frear,
Chief, National Register of Historic Places/National Historic Landmarks Program.

[FR Doc. 2025-08410 Filed 5-12-25; 8:45 am]

BILLING CODE 4312-52-P